INTERNATIONAL TRADE COMMISSION

[Investigation No. 337-TA-820]

Certain Products Containing Interactive Program Guide and Parental Controls Technology; Commission Determination Not To Review an Initial Determination Terminating the Investigation Based Upon a Settlement Agreement; Termination of the Investigation

AGENCY: U.S. International Trade Commission.

ACTION: Notice.

SUMMARY: Notice is hereby given that the U.S. International Trade Commission has determined not to review the presiding administrative law judge's (“ALJ”) initial determination (“ID”) (Order No. 58) terminating the investigation based upon a settlement agreement in the above captioned investigation.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 21, 2011, based on a complaint filed by Rovi Corporation of Santa Clara, California; Rovi Guides, Inc. (f/k/a/Gemstar-TV Guide International Inc.) of Santa Clara, California; United Video Properties, Inc. of Santa Clara, California; Gemstar Development Corporation of Santa Clara, California; and Index Systems, Inc. of Tortola, the British Virgin Islands (collectively, “Rovi”). 76 FR 79214-5 (Dec. 21, 2011). The complaint alleged violations of Section 337 of the Tariff Act of 1930, as amended, 19 U.S.C. 1337, in the importation into the United States, the sale for importation, and the sale within the United States after importation of certain products containing interactive program guide and parental controls technology by reason of infringement of certain claims of U.S. Patent Nos. 7,493,643; RE41,993; 6,701,523; and 7,047,547. The notice of investigation named Vizio, Inc. of Irvine, California (“Vizio”); Haier Group Corp. of Shandong, China (“HGC”); and Haier America of New York, New York (“Haier America”) as respondents. The Office of Unfair Import Investigations was also named as a party, but later decided not to participate in the investigation under the Commission's Supplement to the Strategic Human Capital Plan 2009-2013. Commission Investigative Staff's Notice of Nonparticipation (Jan. 6, 2012). The Commission later terminated the investigation as to Haier America and HGC based on consent orders. Notice (June 18, 2012) (Order No. 18); Notice (June 18, 2012) (Order No. 19).

On January 4, 2013, Rovi and Vizio jointly filed a motion to terminate the investigation based upon a settlement agreement. Rovi and Vizio filed public and confidential versions of the motion to terminate and the settlement agreement. On January 8, 2013, the ALJ granted the motion as an ID (Order No. 56). On January 29, 2013, the Commission determined to review the ID and found that the public version of the settlement agreement did not comply with Commission Rules 210.21(b)(1) and 201.6. Accordingly, the Commission remanded the investigation to the ALJ to require Rovi and Vizio to file a renewed motion to terminate along with public and confidential versions of the settlement agreement that comply with Commission rules.

In response to the Commission's January 29, 2013 Order, Rovi and Vizio jointly filed a renewed motion to terminate the investigation based upon a settlement agreement on February 13, 2013, that included a fully unredacted confidential version of the settlement agreement and a lightly redacted public version. On February 19, 2013, the ALJ issued the subject ID (Order No. 58) granting the motion. The ALJ found that termination would be in the public interest.

No petitions for review of the ID were filed. The Commission has determined not to review the ID.

The authority for the Commission's determination is contained in section 337 of the Tariff Act of 1930, as amended (19 U.S.C. 1337), and in section 210.42-46 of the Commission's Rules of Practice and Procedure (19 CFR 210.42-46).

By order of the Commission.
Issued: March 11, 2013.
Lisa R. Barton,
Acting Secretary to the Commission.

[FR Doc. 2013-05993 Filed 3-14-13; 8:45 am]

BILLING CODE 7020-02-P